SMALL BUSINESS ADMINISTRATION

Delegation of Authority; Delegation of Authority No. 24 to the Chief Operating Officer

AGENCY: U.S. Small Business Administration.

ACTION: Notice of delegation of authority.

DATES: Effective March 15, 2012.

SUMMARY: This is notice that the Administrator of Small Business Administration (SBA) has delegated to the Chief Operating Officer (COO) of SBA management and supervisory authority, with certain limited exceptions noted below, over the Office of the Chief Information Officer and the Office of Management and Administration, and responsibility for coordinating and collaborating with other relevant officers within the Agency so as to achieve the mission and goals of the Agency.

FOR FURTHER INFORMATION CONTACT: Monique Fortenberry, Deputy General Counsel, Office of General Counsel, Small Business Administration, 409 3rd Street SW., Suite 7200, Washington, DC 20416, telephone number 202-619-1848. (This is not a toll-free number.) Individuals with speech or hearing impairments may access this number through TTY by calling 1-704-344-6640.

SUPPLEMENTARY INFORMATION: Certain management, program and planning functions previously performed by the Deputy Administrator, the Associate Administrator for Management and Administration, and by the Chief Information Officer will now be performed, managed, or coordinated by the COO. These functions include providing overall organizational management to improve Agency performance and achieve the mission and goals of the Agency through the use of strategic and performance planning, measurement, analysis, assessment of progress, and use of performance information to improve results achieved; security and emergency planning; grants management and oversight; long-range budgeting and accounting; hiring and training employees; modernizing information technology systems; information security; protecting privacy; internal procurement and contracting; strategic planning; and disaster preparedness policy.

Section A. Delegation of Authority No. 24 to the Chief Operating Officer

The Administrator of the Small Business Administration has delegated to the COO authority to:

1. Provide overall organizational guidance and oversight to improve Agency performance, and to achieve the mission and goals of the Agency through the use of strategic and performance planning, measurement, analysis, regular assessment of progress and the use of performance information to improve results;

2. Manage and supervise, either directly or through subordinate managers, the Office of Management and Administration (OM&A). OM&A is responsible for managing administrative services; facilities management; executive secretariat and correspondence management; grants management; equal employment opportunity and civil rights compliance; and human capital management, including performance management, executive resources, human capital policy, planning and training, recruitment and staffing, employee and labor relations, pay, benefits and retirement. With regard to the Office of Equal Employment Opportunity and Civil Rights Compliance, however, the COO's responsibilities are limited to guidance and oversight of the office's budget, staffing, external reporting requirements, setting and meeting performance goals, and other organizational matters;

3. Manage and supervise, either directly or through subordinate managers, the Office of the Chief Information Officer (OCIO). OCIO is responsible for modernizing information technology systems; providing network support, application development, IT security, IT project management, enterprise architecture services; and participating in cross-Government initiatives. However, for the purpose of performing the duties and responsibilities mandated by Section 5125(b) & (c) of the Clinger-Cohen Act of 1996, 44 U.S.C. 3506, the CIO will continue to report directly to the Administrator; and

4. Coordinate and collaborate with other relevant officers within the Agency who have a significant role in contributing to and achieving the mission and goals of the Agency, in particular the Chief Financial Officer and Associate Administrator for Performance Management, and the Director of the Office of Disaster Planning.

Section B. Authority to Re-Delegate

The COO may not re-delegate any of the authority outlined under Section A, above. However, in the event that the COO is absent from the office, as defined in SBA Standard Operating Procedure 00 01 2, or is unable to perform the functions and duties of the position, an individual serving in an acting capacity, by designation from the Administrator or pursuant to a written and established line of succession, shall have the authority delegated to the COO as outlined under Section A, above.

Section C. Authority Superseded

All previous delegations of authority from the Administrator of SBA to the COO or any other officer of the Agency are superseded to the extent that such previous delegations are inconsistent with the delegation of authority outlined in Section A, above.

Section D. Authority Excepted

The authority delegated to the COO under Section A, above, does not include the authority to sue or be sued, or to issue or waive regulations.

Authority: 15 U.S.C. 634 and 31 U.S.C. 1123.

Dated: March 15, 2012.
Karen G. Mills,
Administrator.

[FR Doc. 2012-8016 Filed 4-3-12; 8:45 am]

BILLING CODE 8025-01-P